DEPARTMENT OF DEFENSE

GENERAL SERVICES ADMINISTRATION

NATIONAL AERONAUTICS AND SPACE ADMINISTRATION

[OMB Control No. 9000-0013; Docket 2017-0053; Sequence 7]

Submission for OMB Review; Certified Cost or Pricing Data and Data Other Than Certified Cost or Pricing Data

AGENCY: Department of Defense (DOD), General Services Administration (GSA), and National Aeronautics and Space Administration (NASA).

ACTION: Notice.

SUMMARY: Under the provisions of the Paperwork Reduction Act of 1995, the Regulatory Secretariat Division will be submitting to the Office of Management and Budget (OMB) a request to review and approve an extension of a previously approved information collection requirement concerning Certified Cost or Pricing Data and Data Other Than Certified Cost or Pricing Data. A notice was published in the Federal Register at 82 FR 43022, on September 13, 2017. One comment was received.

DATES: Submit comments on or before January 25, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0013. Select the link that corresponds with “Information Collection 9000-0013, Certified Cost or Pricing Data and Data Other Than Certified Cost or Pricing Data.” Follow the instructions provided on the screen. Please include your name, company name (if any), and “Information Collection 9000-0013, Certified Cost or Pricing Data and Data Other Than Certified Cost or Pricing Data”, on your attached document.

• Mail: General Services Administration, Regulatory Secretariat Division (MVCB), 1800 F Street NW, Washington, DC 20405. ATTN: Ms. Mandell/IC 9000-0013, Certified Cost or Pricing Data and Data Other Than Certified Cost or Pricing Data.

Instructions: Please submit comments only and cite Information Collection 9000-0013, Certified Cost or Pricing Data and Data Other Than Certified Cost or Pricing Data, in all correspondence related to this collection. All comments received will be posted without change to http://www.regulations.gov, including any personal and/or business confidential information provided.

FOR FURTHER INFORMATION CONTACT: Mr. Michael O. Jackson, Procurement Analyst, Federal Acquisition Policy Division, GSA 202-208-4949, or michaelo.jackson@gsa.gov.

SUPPLEMENTARY INFORMATION:

A. Purpose

The Truth in Negotiations Act requires the Government to obtain certified cost or pricing data under certain circumstances. Contractors may request an exemption from this requirement under certain conditions and provide other information instead.

B. Public Comment

A 60 day notice was published in the Federal Register at 82 FR 43022, on September 13, 2017. One comment was received; however, it was not substantive, and did not change the estimate of the burden.

C. Annual Reporting Burden

Fiscal year 2016 data was obtained from the Federal Procurement Data System to estimate burdens for the provisions and clauses addressed in this information collection notice. This update does not include the requirements at FAR 42.7, Indirect Cost Rates, as this requirement is covered under OMB Control Number 9000-0069. The data for 52.215-20 is for new contract awards in FY 2016. The data for modifications and orders executed in FY 2016 applies to new contract awards as well as to prior multiple year contracts that continue to be active. The following is a summary of the FY 2016 data:

1. Subcontractor C&P Data-Mods (FAR 52.214-28)

Respondents: 8.

Responses per Respondent: 1.

Total Responses: 8.

Hours per Response: 160.

Total Burden Hours: 1,280.

2. Subcontractor C&P Data (FAR 52.215-12)

Respondents: 3,832.

Responses per Respondent: 1.

Total Responses: 3,832.

Hours per Response: 160.

Total Burden Hours: 613,120.

3. Subcontractor C&P Data-Mods (FAR 52.214-13)

Respondents: 1,292.

Responses per Respondent: 1.

Total Responses: 1,292.

Hours per Response: 160.

Total Burden Hours: 206,720.

4. Requirement for C&P Data and Data Other Than C&P Data (FAR 52.215-20)

Respondents: 25,853.

Responses per Respondent: 1.69.

Total Responses: 117,225.

Hours per Response: 143.

Total Burden Hours: 6,506,140.

5. Requirement for C&P Data and Data Other Than C&P Data-Mods (FAR 52.215-21)

Respondents: 8,440.

Responses per Respondent: 3.

Total Responses: 27,623.

Hours per Response: 106.

Total Burden Hours: 2,432,560.

6. Total

Respondents: 39,425.

Responses per Respondent: 3.80.

Total Responses: 149,980.

Hours per Response: 65.

Total Burden Hours: 9,759,820.

Obtaining copies of proposals: Requesters may obtain a copy of the information collection documents from the General Services Administration, Regulatory Secretariat Division (MVCB), 1800 F Street NW, Washington, DC 20405, telephone 202-501-4755. Please cite OMB Control No. 9000-0013, Certified Cost or Pricing Data and Data Other Than Certified Cost or Pricing Data, in all correspondence.

Dated: December 19, 2017.
Lorin S. Curit,
Director, Federal Acquisition Policy Division, Office of Government-wide Acquisition Policy, Office of Acquisition Policy, Office of Government-wide Policy.

[FR Doc. 2017-27672 Filed 12-22-17; 8:45 am]

BILLING CODE 6820-EP-P